DEPARTMENT OF ENERGY

Federal Energy Regulatory Commission

[Docket No. CP01-438-000]

Northwest Pipeline Corporation; Notice of Site Visit

January 2, 2002.

On January 15-16, 2002, the Office of Energy Projects (OEP) staff will conduct a pre-certification site visit of Northwest Pipeline Corporation's (Northwest) Rockies Expansion Project in Pocatello, Idaho. We will examine the proposed project route and possible alternative routes in Pocatello. The inspection will be conducted by automobile and on foot. Representatives of Northwest will be accompanying the OEP staff.

All interested parties may attend. Those planning to attend must provide their own transportation. For further information on attending the site visit, please contact the Commission's Office of External Affairs at (202) 208-0004.

Linwood A. Watson, Jr.,
Acting Secretary.

[FR Doc. 02-334 Filed 1-7-02; 8:45 am]

BILLING CODE 6717-01-P